FEDERAL COMMUNICATIONS COMMISSION

47 CFR Part 1

[WT Docket No. 05-211; DA 06-1617]

Implementation of the Commercial Spectrum Enhancement Act and Modernization of the Commission's Competitive Bidding Rules and Procedures

AGENCY: Federal Communications Commission.

ACTION: Notice of proposed rulemaking; extension of comment period and reply comment period.

SUMMARY: This document extends the time for filing comments and reply comments in response to the Second Further Notice of Proposed Rule Making in WT Docket No. 05-211, FCC 06-52.

DATES: Comments are due September 20, 2006; Reply Comments are due October 20, 2006.

ADDRESSES: You may submit comments, identified by WT Docket No. 05-211, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

In addition to filing comments with the Secretary, a copy of any comments on the Paperwork Reduction Act information collection requirements contained in the Second Further Notice of Proposed Rule Making should be submitted to Judith B. Herman, Federal Communications Commission, Room 1-C804, 445 12th Street, SW., Washington, DC 20554, or via the Internet to PRA@fcc.gov, and to Kristy L. LaLonde, OMB Desk Officer, Room 10234 NEOB, 725 17th Street, NW., Washington, DC 20503, via the Internet to Kristy_L. LaLonde@omb.eop.gov, or via fax at 202-395-5167.

For detailed instructions for submitting comments and additional information on the rulemaking process, see the SUPPLEMENTARY INFORMATION section of the Second Further Notice of Proposed Rule Making in WT Docket No. 05-211, 71 FR 35594, June 21, 2006.

FOR FURTHER INFORMATION CONTACT: Brian Carter, Auctions and Spectrum Access Division, Wireless Telecommunications Bureau at (202) 418-0660.

SUPPLEMENTARY INFORMATION: This is a summary of the Commission's Order, DA 06-1617, released on August 10, 2006. The complete text of the Order is available for public inspection and copying from 8 a.m. to 4:30 p.m. Monday through Thursday or from 8 a.m. to 11:30 a.m. on Friday at the FCC Reference Information Center, Portals II, 445 12th Street, SW., Room CY-A257, Washington, DC 20554. The Order and related Commission documents may also be purchased from the Commission's duplicating contractor, Best Copy and Printing, Inc. (BCPI), Portals II, 445 12th Street, SW., Room CY-B402, Washington, DC 20554, telephone 202-488-5300, facsimile 202-488-5563, or you may contact BCPI at its Web site: http://www.BCPIWEB.com. When ordering documents from BCPI please provide the appropriate FCC document number, for example, DA 06-1617. The Order and related documents are also available on the Internet at the Commission's Web site: http://wireless.fcc.gov/auctions.

1. On July 25, 2006, a motion was filed with the Commission requesting an extension of time for submitting comments and reply comments in response to the Second Further Notice of Proposed Rule Making in WT Docket No. 05-211, 71 FR 35594, June 21, 2006. The Second Further Notice of Proposed Rule Making seeks public comment on a variety of measures to ensure that the recipients of designated entity benefits are limited to those entities and for those purposes Congress intended. Interested parties previously had until August 21, 2006, for filing comments and September 19, 2006, for filing reply comments.

2. It is the general policy of the Commission that extensions of time shall not be routinely granted. Nevertheless, the Commission finds that in this instance a limited extension of time will facilitate the development of a complete record in response to the Second Further Notice of Proposed Rule Making. The Second Further Notice of Proposed Rule Making seeks public comment on how to ensure that the recipients of designated entity benefits are limited to those entities and for those purposes Congress intended. Thus, the comments provided by designated entities will be a vital part of the record. Designated entities include small businesses, some of whom have just finished preparing and filing applications to participate in Auction No. 66 and arranging financing for the necessary upfront payments. The Commission believes that providing additional time will facilitate comments in response to the Second Further Notice of Proposed Rule Making by designated entities participating in Auction No. 66. The Commission also finds that providing limited additional time will not unduly delay resolution of the proceeding. Accordingly, the Commission extends the deadlines for filing comments and reply comments in response to the Second Further Notice of Proposed Rule Making until September 20, 2006 and October 20, 2006, respectively.

3. Accordingly, it is ordered that, pursuant to sections 4(i) and 4(j) of the Communications Act of 1934, as amended, 47 U.S.C. 154(i) and 154(j), and sections 0.131, 0.331, and 1.46 of the Commission's rules, 47 CFR 0.131, 0.331, and 1.46, the deadline for filing comments in response to the Second Further Notice of Proposed Rule Making is extended to September 20, 2006, and the deadline for filing reply comments is extended to October 20, 2006.

Federal Communications Commission.
Margaret Wiener,
Chief, Auction Spectrum and Access Division, WTB.

[FR Doc. E6-14161 Filed 8-24-06; 8:45 am]

BILLING CODE 6712-01-P